NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time:

October 25, 2022: 10:05 a.m. to 5:00 p.m.

October 26, 2022: 8:30 a.m. to 3:05 p.m.

Place: NSF, 2415 Eisenhower Avenue, Alexandria, VA 22314.

Hybrid participation for AC Members and Presenters. Other visitors and guests will be able to virtually attend the meeting.

To attend the virtual meeting, please send your request for the virtual meeting link to Michelle Bushey at the following email address: mbushey@nsf.gov.

Type of Meeting: Open.

Contact Person: Rachel Abraham, National Science Foundation, 2415 Eisenhower Avenue, Room C 9000, Alexandria, Virginia 22314; Telephone: 703/292-4659.

Meeting Information: http://www.nsf.gov/mps/advisory.jsp.

Purpose of Meeting: To provide advice, recommendations and counsel on major goals and policies pertaining to MPS programs and activities.

Agenda

Tuesday, October 25, 2022

• Call to Order and Official Opening of the Meeting

• Approval of Prior Meeting Minutes—MPSAC Chair

• MPS Update by Assistant Director

• Science Highlight

• GRANTED

• Articulating Impacts of Basic Research

• Facilities Status Update

• Preparation for discussion with NSF Director, Chief Operating Officer, Chief of Staff

• Closing remarks and adjourn day 1

Wednesday, October 26, 2022

• Welcome and overview of agenda

• Science Highlight

• Waterman Canvassing Group

• Environmental Research and Education (ERE) AC followup

• Quantum Information Science

• Climate Change and Clean Energy

• Preparation for discussion with NSF Director, Chief Operating Officer, Chief of Staff

• Meeting and discussion with NSF Director, Chief Operating Officer, Chief of Staff

• Closing remarks and adjourn

Dated: September 26, 2022.
Crystal Robinson,
Committee Management Officer.

[FR Doc. 2022-21164 Filed 9-28-22; 8:45 am]

BILLING CODE 7555-01-P